DEPARTMENT OF THE INTERIOR

Bureau of Land Management

Notice of Availability of Eastern San Diego County Draft Resource Management Plan and Draft Environmental Impact Statement

AGENCY: Bureau of Land Management, Interior.

ACTION: Notice of availability.

SUMMARY: In accordance with the National Environmental Policy Act of 1969 and the Federal Land Policy and Management Act of 1976, the Bureau of Land Management (BLM) has prepared a Draft Resource Management Plan/Environmental Impact Statement (RMP/EIS) for the El Centro Field Office. The Draft RMP/EIS addresses public lands managed by the El Centro Field Office in the eastern portion of San Diego County, California, and by this notice is announcing the opening of the comment period.

DATES: To assure that they will be considered, BLM must receive written comments on the Draft RMP/EIS within 90 days following the date the Environmental Protection Agency publishes the Notice of Availability in the Federal Register. Future meetings or hearings and any other public involvement activities will be announced at least 15 days in advance through public notices, media news releases, and/or mailings.

ADDRESSES: You may submit comments at the public meetings or by any of the following methods:

• Web Site: http://www.ca.blm.gov/elcentro.

• Fax: (760) 337-4490.

• Mail: 1661 So. 4th St., El Centro, California 92243.

• E-mail: caesdrmp@.ca.blm.gov.

CD and paper copies of the Eastern San Diego County Draft RMP/EIS are available at the El Centro Field Office at the above address and at the California BLM State Office, 2800 Cottage Way, Sacramento, California 95825.

FOR FURTHER INFORMATION CONTACT: Thomas Zale, (760) 337-4420.

SUPPLEMENTARY INFORMATION: The Eastern San Diego County Planning Unit is comprised of 98,902 acres of public land, spanning a portion of the eastern escarpment of Southern California's Peninsular Ranges. The Eastern San Diego County RMP, when completed, will provide management guidance for use and protection of the resources managed by the El Centro Field Office in this area. The Draft RMP/EIS has been developed through a collaborative planning process and considers five alternatives. The primary issues addressed include: Conflicts between motorized, mechanized, and non-motorized/non-mechanized recreationists; protection of sensitive natural and cultural resources from impacts due to recreational use, livestock grazing, and other land uses; guidance for renewable energy development; and addressing other planning issues raised during the scoping process.

The Draft RMP/EIS also includes consideration of the designation of Areas of Critical Environmental Concern (ACECs). The preferred alternative includes the following ACECs: In-Ko-Pah ACEC—23,020 acres (currently 22,186 acres); Table Mountain ACEC—4,684 acres (currently 4,293 acres). Use of public lands within these ACECs would vary, depending on the resources and/or values identified (see Chapter 2 of the Draft RMP/EIS), but would likely include limitations on OHV use, livestock grazing, and development projects.

Individual respondents may request confidentiality. If you wish to withhold your name or street address from public review or from disclosure under the Freedom of Information Act, you must state this prominently at the beginning of your written comment. Such requests will be honored to the extent allowed by law. All submissions from organizations and businesses, and from individuals identifying themselves as representatives or officials of organizations or businesses, will be available for public inspection in their entirety.

Editorial Note: This document was received at the Office of the Federal Register on February 26, 2007.

Dated: September 6, 2006.
Vicki L. Wood,
El Centro Field Office Manager.

[FR Doc. E7-3614 Filed 3-1-07; 8:45 am]

BILLING CODE 4310-40-P